DEPARTMENT OF TRANSPORTATION

National Highway Traffic Safety Administration

[Docket No. NHTSA-2016-0003; Notice 2]

Continental Tire the Americas, LLC, Grant of Petition for Decision of Inconsequential Noncompliance

AGENCY: National Highway Traffic Safety Administration (NHTSA), Department of Transportation (DOT).

ACTION: Grant of petition.

SUMMARY: Continental Tire the Americas, LLC (CTA), has determined that certain CTA tires do not fully comply with paragraph S5.5(f) of Federal Motor Vehicle Safety Standard (FMVSS) No. 139 New Pneumatic Radial Tires for Light Vehicles. CTA filed a report dated December 11, 2015, pursuant to 49 CFR part 573, Defect and Noncompliance Responsibility and Reports. CTA then petitioned NHTSA under 49 CFR part 556 requesting a decision that the subject noncompliance is inconsequential to motor vehicle safety.

ADDRESSES: For further information on this decision contact Abraham Diaz, Office of Vehicle Safety Compliance, the National Highway Traffic Safety Administration (NHTSA), telephone (202) 366-5310, facsimile (202) 366-5930.

SUPPLEMENTARY INFORMATION:

I. Overview

Pursuant to 49 U.S.C. 30118(d) and 30120(h) (see implementing regulations at 49 CFR part 556), CTA submitted a petition for an exemption from the notification and remedy requirements of 49 U.S.C. Chapter 301 on the basis that this noncompliance is inconsequential to motor vehicle safety.

Notice of receipt of the petition was published, with a 30-day public comment period, on March 25, 2016 in the Federal Register (81 FR 16269). No comments were received. To view the petition and all supporting documents log onto the Federal Docket Management System (FDMS) Web site at: http://www.regulations.gov/. Then follow the online search instructions to locate docket number “NHTSA-2016-0003.”

II. Tires Involved

Affected are approximately 1,800 General Tire brand Grabber size LT265/75R16 112/109 Q LRC tires that were manufactured between December 10, 2010 ¹ and September 9, 2013.

¹ Subsequent to the original filing, CTA informed NHTSA that the original manufacture start date as stated in their part 573 should in fact be November 7, 2010.

III. Noncompliance

CTA explains that due to a mold error, the number of tread plies indicated on the sidewall of the subject tires does not match the actual number of plies in the tire construction. The tires are marked “PLIES: TREAD: 2 POLYESTER + 2 STEEL + 2 POLYAMIDE” whereas the correct marking should be: “PLIES: TREAD: 2 POLYESTER + 2 STEEL + 1 POLYAMIDE.” As a consequence, these tires do not meet requirements specified in paragraph S5.5(f) of FMVSS No. 139.

IV. Rule Text

Paragraph S5.5(f) of FMVSS No. 139 states, in pertinent part:

S5.5 Tire Markings. Except as specified in paragraph (a) through (i) of S5.5, each tire must be marked on each sidewall with the information specified in S5.5(a) through (d) and on one sidewall with the information specified in S5.5(e) through (i) according to the phase-in schedule specified in S7 of this standard . . .

(f) The actual number of plies in the sidewall, and the actual number of plies in the tread area, if different.

V. Summary of CTA's Petition

CTA described the subject noncompliance and stated its belief that the noncompliance is inconsequential to motor vehicle safety.

In support of its petition, CTA submitted the following information pertaining to the subject noncompliance:

(a) CTA stated that the tires covered by this petition are labeled with incorrect information regarding the number of tread plies. The company noted that while the number of polyester and steel plies indicated on the sidewall is accurate, the number of polyamide plies indicated is incorrect. The company contended, however, that this mislabeling has no impact on the operational performance of these tires or on the safety of vehicles on which these tires are mounted. The company asserted that the tires meet or exceed all of the performance requirements of FMVSS No. 139.

(b) CTA noted that NHTSA has concluded in response to numerous other petitions that this type of noncompliance is inconsequential to motor vehicle safety. CTA referenced notices that NHTSA has published in the Federal Register granting the following inconsequentiality petitions:

• Petition of Hankook Tire America Corp., 79 FR 30688 (May 28, 2014);

• Petition of Bridgestone Americas Tire Operations, LLC, 78 FR 47049 (August 2, 2013);

• Petition of Cooper Tire & Rubber Company, 78 FR 47050 (August 2, 2013).

(c) CTA states that all tires covered by its petition meet or exceed the performance requirements of FMVSS No. 139, as well as the other labeling requirements of the standard.

(d) CTA also states that it is not aware of any crashes, injuries, customer complaints, or field reports associated with the subject noncompliance.

CTA additionally informed NHTSA that it has quarantined all existing inventory of the tires that contain the noncompliant tire sidewall labeling and has corrected the molds at the manufacturing plant so that no additional tires will be manufactured with the noncompliance.

In summation, CTA believes that the described noncompliance is inconsequential as it relates to motor vehicle safety, and that its petition to be exempted from providing notification of the noncompliance, as required by 49 U.S.C. 30118, and to remedy the noncompliance, as required by 49 U.S.C. 30120, should be granted.

NHTSA'S Decision

NHTSA'S Analysis: The agency agrees with CTA that the noncompliance is inconsequential to motor vehicle safety. The agency believes that one measure of inconsequentiality to motor vehicle safety in this case is that there is no effect of the noncompliance on the operational safety of vehicles on which these tires are mounted. The safety of people working in the tire retread, repair and recycling industries must also be considered and is a measure of inconsequentiality.

Although tire construction affects the strength and durability of tires, neither the agency nor the tire industry provides information relating tire strength and durability to the number of plies and types of ply cord material in the tread sidewall. Therefore, tire dealers and customers should consider the tire construction information along with other information such as the load capacity, maximum inflation pressure, and tread wear, temperature, and traction ratings, to assess performance capabilities of various tires. In the agency's judgement, the incorrect labeling of the tire construction information will have an inconsequential effect on motor vehicle safety because most consumers do not base tire purchases or vehicle operation parameters on the number of plies in a tire.

The agency also believes the noncompliance will have no measureable effect on the safety of the tire retread, repair, and recycling industries. The use of steel cord construction in the sidewall and tread is the primary safety concern of these industries. In this case, since the tire sidewalls are marked correctly for the number of steel plies, this potential safety concern does not exist.

NHTSA'S Decision: In consideration of the foregoing, NHTSA finds that CTA has met its burden of persuasion that the subject FMVSS No. 139 noncompliance in the affected tires is inconsequential to motor vehicle safety. Accordingly, CTA's petition is hereby granted and CTA is consequently exempted from the obligation of providing notification of, and a free remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject tires that CTA no longer controlled at the time it determined that the noncompliance existed. However, the granting of this petition does not relieve equipment distributors and dealers from the prohibitions on the sale, offer for sale, or introduction or delivery for introduction into interstate commerce of the noncompliant tires under their control after CTA notified them that the subject noncompliance exists.

Authority: 49 U.S.C. 30118, 30120: delegations of authority at 49 CFR 1.95 and 501.8.

Jeffrey M. Giuseppe,
Director, Office of Vehicle Safety Compliance.

[FR Doc. 2016-16843 Filed 7-15-16; 8:45 am]

BILLING CODE 4910-59-P